Title 3—

The President

Presidential Determination No. 2008-23 of July 25, 2008

Memorandum for the Secretary of State

Emergency Fund Drawdown to Assist Zimbabwean Refugees in South Africa, Botswana, Mozambique, and Zambia

By the authority vested in me by the Constitution and the laws of the United States, including sections 2 and 4(a)(1) of the Migration and Refugee Assistance Act of 1962 (the “Act”), as amended (22 U.S.C. 2601 and 2603) and section 301 of title 3, United States Code:

(1) I hereby determine, pursuant to 2(c)(1) of the Act, that it is important to the national interest to furnish assistance under the Act, in an amount not to exceed $2.5 million from the United States Emergency Refugee and Migration Assistance Fund, for the purpose of meeting unexpected and urgent refugee and migration needs, including by contributions to international, governmental, and nongovernmental organizations and payment of administrative expenses of the Bureau of Population, Refugees, and Migration of the Department of State, related to humanitarian needs of Zimbabwean refugees and asylum seekers; and

(2) the functions of the President in relation to this memorandum under section 2(d) of the Act, and of establishing terms and conditions under section 2(c)(1) of the Act, are assigned to you, and you may further assign such functions to any of your subordinates, consistent with applicable law.

You are authorized and directed to publish this memorandum in the Federal Register.

THE WHITE HOUSE,

Washington, July 25, 2008

[FR Doc. E8-21964

Filed 9-17-08; 8:45 am]

Billing code 4710-10-P